DEPARTMENT OF TRANSPORTATION

Federal Aviation Administration

14 CFR Part 39

[Docket No. FAA-2015-3607; Directorate Identifier 2015-CE-010-AD; Amendment 39-18398; AD 2016-04-04]

RIN 2120-AA64

Airworthiness Directives; M7 Aerospace LLC Airplanes

AGENCY: Federal Aviation Administration (FAA), DOT.

ACTION: Final rule.

SUMMARY: We are adopting a new airworthiness directive (AD) for all M7 Aerospace LLC Models SA26-AT, SA226-T(B), SA226-AT, SA226-T, SA226-TC, SA227-AC (C-26A), SA227-AT, SA227-BC (C-26A), SA227-CC, SA227-DC (C-26B), and SA227-TT airplanes. This AD was prompted by information that the airplane flight manual (AFM) does not provide adequate guidance in the handling of engine failures, which may lead to reliance on the negative torque system (NTS) for reducing drag. This condition could lead the pilot to not fully feather the propeller with consequent loss of control. This AD requires inserting updates into the airplane flight manual (AFM) and/or the pilot operating handbook (POH) that will clearly establish that the NTS is not designed to automatically feather the propeller but only to provide drag protection. We are issuing this AD to correct the unsafe condition on these products.

DATES: This AD is effective April 8, 2016.

The Director of the Federal Register approved the incorporation by reference of certain publications listed in this AD as of April 8, 2016.

ADDRESSES: For service information identified in this AD, contact M7 Aerospace LLC, 10823 NE Entrance Road, San Antonio, Texas 78216; phone: (210) 824-9421; fax: (210) 804-7766; Internet: http://www.elbitsystems-us.com; email: MetroTech@M7Aerospace.com. You may view this referenced service information at the FAA, Small Airplane Directorate, 901 Locust, Kansas City, Missouri 64106. For information on the availability of this material at the FAA, call 816-329-4148. It is also available on the Internet at http://www.regulations.gov by searching for and locating Docket No. FAA-2015-3607.

Examining the AD Docket

You may examine the AD docket on the Internet at http://www.regulations.gov by searching for and locating Docket No. FAA-2015-3607; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Michael Heusser, Aerospace Engineer, FAA, Fort Worth Aircraft Certification Office, 10101 Hillwood Parkway, Fort Worth, Texas 76177; telephone: (817) 222-5038; fax: (817) 222-5960; email: Michael.A.Heusser@faa.gov.

SUPPLEMENTARY INFORMATION:

Discussion

We issued a notice of proposed rulemaking (NPRM) to amend 14 CFR part 39 by adding an AD that would apply to all M7 Aerospace LLC Models SA26-AT, SA226-T(B), SA226-AT, SA226-T, SA226-TC, SA227-AC (C-26A), SA227-AT, SA227-BC (C-26A), SA227-CC, SA227-DC (C-26B), and SA227-TT airplanes. The NPRM published in the Federal Register on August 25, 2015 (80 FR 51495). The NPRM was prompted by a report of an accident where an M7 Aerospace LLC Model SA227-AC airplane experienced left engine power loss and consequent loss of control. Training manuals provide descriptions of the negative torque system (NTS), which provides partial anti-drag protection if a negative torque condition is sensed. This feature might cause pilots to assume the system automatically provides full anti-drag protection in the event of an engine failure or power loss. The pilot must also take prompt action to fully feather the propeller on the failed engine to reduce drag. A pilot's sole reliance on the NTS for reducing drag in the event of engine power loss may result in the pilot's failure to initiate the Engine Failure Inflight checklist and feather the propellers in time.

The NPRM proposed to require inserting updates into the airplane flight manual (AFM) and/or the pilot operating handbook (POH) that will clearly establish that the NTS is not designed to automatically feather the propeller but only to provide drag protection. We are issuing this AD to correct the unsafe condition on these products.

Comments

We gave the public the opportunity to participate in developing this AD. We received no comments on the NPRM (80 FR 51495, August 25, 2015) or on the determination of the cost to the public.

Conclusion

We reviewed the relevant data and determined that air safety and the public interest require adopting this AD as proposed except for minor editorial changes. We have determined that these minor changes:

• Are consistent with the intent that was proposed in the NPRM (80 FR 51495, August 25, 2015) for correcting the unsafe condition; and

• Do not add any additional burden upon the public than was already proposed in the NPRM (80 FR 51495, August 25, 2015).

Related Service Information Under 1 CFR Part 51

We reviewed the following M7 Aerospace LLC service information:

• M7 Aerospace LLC Merlin SA26-AT Dash One Airplane Flight Manual (AFM), Revision, section III, pages III-1 through III-6, revised May 14, 2015; and pages III-7 through III-8, FAA Approved May 14, 2015;

• M7 Aerospace LLC Merlin SA26-AT Dash Two, AFM, Revision, section III, pages III-1 through III-6, revised May 14, 2015, and pages III-7 through III-8, FAA Approved May 14, 2015;

• M7 Aerospace LLC Swearingen Merlin SA226-T AFM, Revision A-29, section III, pages III-2 though III-25, revised November 14, 2014, and page III-26, FAA Approved November 14, 2014;

• M7 Aerospace LLC Swearingen Merlin SA226-AT AFM, Revision B-33, section III, pages III-2 through III-24, revised November 14, 2014, and pages III-25 through III-30, FAA approved November 14, 2014;

• M7 Aerospace LLC Merlin IIIB SA226-T(B) AFM, Revision B-29, section 3, pages 3-2 through page 3-20, revised November 14, 2014; and pages 3-21 through 3-24, issued November 14, 2014;

• M7 Aerospace LLC Swearingen Metro SA226-TC AFM, Revision A-43, section III, pages III-2 through page III-24, revised November 14, 2014; and pages III-25 through III-32, FAA Approved November 14, 2014;

• M7 Aerospace LLC Fairchild Aircraft Model SA227-AC (4AC) Metro III AFM, Revision B-11, section 3, pages 3-3 through 3-30, revised November 14, 2014;

• M7 Aerospace LLC Fairchild Aircraft Model SA227-AC (4MC) Metro III AFM, Revision A-12, section 3, pages 3-4 through 3-30, revised November 14, 2014; and pages 3-31 through 3-36, FAA Approved November 14, 2014;

• M7 Aerospace LLC Fairchild Aircraft Model SA227-AC (6AC) Metro III AFM, Revision A-16, section 3, pages 3-4 through 3-20, revised November 14, 2014;

• M7 Aerospace LLC Fairchild Aircraft Model SA227-AC (7AC) Metro III AFM, Revision B-19, section 3, pages 3-3 through 3-30, revised December 9, 2014; and pages 3-31 through 3-34, FAA Approved December 9, 2014;

• M7 Aerospace LLC Fairchild Aircraft SA227-AC (7MC) Metro III AFM, Revision A-13, section 3, pages 3-4 through 3-30, revised December 9, 2014; and pages 3-31 through 3-34, FAA Approved December 9, 2014;

• M7 Aerospace LLC Fairchild Aircraft SA227-AC (8AC) Metro III AFM, Revision A-15, section 3, pages 3-4 through 3-30, revised December 9, 2014; and pages 3-31 through 3-34, FAA Approved December 9, 2014;

• M7 Aerospace LLC Fairchild Aircraft SA227-AT (4AT) Merlin IVC, Pilot's Operating Handbook (POH)/AFM, Revision A-12, section 3, pages 3-4 through 3-30, revised November 14, 2014; and pages 3-31 through 3-34, FAA Approved November 14, 2014;

• M7 Aerospace LLC Fairchild Aircraft SA227-AT (6AT) Merlin IVC POH/AFM, Revision 13, section 3, pages 3-4 through 3-30, revised November 14, 2014; and pages 3-31 through 3-36, FAA Approved November 14, 2014;

• M7 Aerospace LLC Fairchild Aircraft SA227-AT (7AT) Merlin IVC POH/AFM, Revision B-12, section 3, pages 3-4 through 3-30, revised December 9, 2014, and pages 3-31 through 3-34, FAA Approved December 9, 2014;

• M7 Aerospace LLC Fairchild Aircraft SA227-AT (8AT) Merlin IVC POH/AFM, Revision 13, section 3, pages 3-4 through 3-30, revised December 9, 2014; and pages 3-31 through 3-34, FAA Approved December 9, 2014;

• M7 Aerospace LLC Fairchild Aircraft SA227-BC (6BC) AFM, Revision 21, section 3, pages 3-4 through 3-30, revised December 9, 2014; and pages 3-31 through 3-36, FAA Approved December 9, 2014;

• M7 Aerospace LLC Fairchild Aircraft SA227-CC (6CC) AFM, Revision 17, section 3, pages 3-3 through 3-24, revised December 9, 2014; and pages 3-25 through 3-30, FAA Approved December 9, 2014;

• M7 Aerospace LLC Fairchild Aircraft SA227-DC (6DC) AFM, Revision 34, section 3, pages 3-3 through 3-26, revised December 9, 2014; and pages 3-27 through 3-32, FAA Approved December 9, 2014;

• M7 Aerospace LLC Fairchild Aircraft SA227-DC (8DC) AFM, Revision 8, section 3, pages 3-3 through 3-26, revised December 9, 2014; and pages 3-27 through 3-34, FAA Approved December 9, 2014;

• M7 Aerospace LLC Fairchild 300 Aircraft SA227-TT POH/AFM, Revision 15, section 3, pages 3-3 through 3-30, revised December 9, 2014; and pages 3-31 through 3-34, FAA Approved December 9, 2014;

• M7 Aerospace LLC Fairchild 300 Aircraft SA227-TT (312) POH/AFM, Revision 13, section 3, page 3-3 and pages 3-5 through 3-30, revised December 9, 2014, and pages 3-31 through 3-32, FAA Approved December 9, 2014; and

• M7 Aerospace LLC Fairchild Model SA227-TT Merlin IIIC Aircraft POH/AFM, Revision 29, section 3, pages 3-3 through 3-24, revised December 9, 2014, and pages 3-25 through 3-32, issued December 9, 2014.

These revisions to the AFM and POH clearly establish that the NTS is not designed to automatically feather the propeller but only to provide drag protection. This service information is reasonably available because the interested parties have access to it through their normal course of business or by the means identified in the ADDRESSES section.

Costs of Compliance

We estimate that this AD affects 360 airplanes of U.S. registry.

We estimate the following costs to comply with this AD:

Estimated Costs
Action | Labor cost | Parts cost | Cost per product | Cost on U.S. operators
Insert revision into the appropriate AFM describing action to take when feathering propellers in the event of engine failure | .5 work-hour × $85 per hour = $42.50 | * NA | $42.50 | $15,300
* Not applicable.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-04-04 M7 Aerospace LLC: Amendment 39-18398; Docket No. FAA-2015-3607; Directorate Identifier 2015-CE-010-AD.

(a) Effective Date

This AD is effective April 8, 2016.

(b) Affected ADs

None.

(c) Applicability

This AD applies to M7 Aerospace LLC Models SA26-AT, SA226-T(B), SA226-AT, SA226-T, SA226-TC, SA227-AC (C-26A), SA227-AT, SA227-BC (C-26A), SA227-CC, SA227-DC (C-26B), and SA227-TT airplanes, all serial numbers, certificated in any category.

(d) Subject

Air Transport Association of America (ATA) Code 01, Operations Information.

(e) Unsafe Condition

This AD was prompted by information that a pilot's sole reliance on the negative torque system (NTS) for reducing drag in the event of engine power loss may result in the pilot's failure to initiate the Engine Failure Inflight checklist and feather the propellers in time. This could lead the pilot to not fully feather the propeller with consequent loss of control. We are issuing this AD to add information to the airplane flight manual (AFM) and/or Pilot's Operating Handbook (POH) that reliance on the NTS to reduce drag during an engine failure could lead the pilot to not fully feather the propeller with consequent loss of control.

(f) Compliance

Unless already done, within the next 30 days after April 8, 2016 (the effective date of this AD), do the actions in paragraph (g) of this AD, as applicable, including all subparagraphs.

(g) Actions

Incorporate the applicable M7 Aerospace LLC AFM revisions as listed in paragraphs (g)(1) through (g)(12) of this AD:

(1) For Model SA26-AT Dash One airplanes: Insert section III, pages III-1 through III-6, revised May 14, 2015; and pages III-7 through III-8, FAA Approved May 14, 2015; into the Merlin Model SA-26AT Dash One AFM, Revision.

(2) For Model SA26-AT Dash Two airplanes: Insert section III, pages III-1 through III-6, revised May 14, 2015; and pages III-7 through III-8, FAA Approved May 14, 2015; into the Merlin Model SA-26AT Dash Two AFM, Revision.

(3) For Model SA226-T airplanes: Insert section III, pages III-2 though III-25, revised November 14, 2014, and page III-26, FAA approved November 14, 2014, into the Swearingen Merlin SA226-T AFM, Reissue A, dated June 28, 1976.

(4) For Model SA226-AT airplanes: Insert section III, pages III-2 through III-24, revised November 14, 2014, and pages III-25 through III-30, FAA approved November 14, 2014, into the Merlin SA226-AT AFM, Reissue B, dated May 6, 1977.

(5) For Model SA226-T(B) airplanes: Insert section 3, pages 3-2, through page 3-20, revised November 14, 2014; and pages 3-21 through 3-24, issued November 14, 2014; into the Merlin IIB SA226-T(B) AFM, Reissue B, dated November 2, 1979.

(6) For Model SA226-TC airplanes: Insert section III, pages III-2 through page III-24, revised November 14, 2014; and pages III-25 through III-32, FAA Approved November 14, 2014; into the Swearingen Metro SA226-TC AFM, Reissue A, dated December 1, 1976.

(7) For Model SA227-AT airplanes:

(i) Model 4AT: Insert section 3, pages 3-4 through 3-30, revised November 14, 2014; and pages 3-31 through 3-34, FAA Approved November 14, 2014; into the Model SA227-AT (4AT) Merlin IVC POH/AFM, Reissue A, dated November 30, 1988;

(ii) Model 6AT: Insert section 3, pages 3-4 through 3-30, revised November 14, 2014; and pages 3-31 through 3-36, FAA Approved November 14, 2014 into the SA227-AT (6AT) Merlin IVC POH/AFM, dated May 13, 1987.

(iii) Model 7AT: Insert section 3, pages 3-4 through 3-30, revised December 9, 2014, and pages 3-31 through 3-34, FAA Approved December 9, 2014, into the SA227-AT (7AT) Merlin IVC POH/AFM, Reissue B, dated November 30, 1988.

(iv) Model 8AT: Insert section 3, pages 3-4 through 3-30, revised December 9, 2014; and pages 3-31 through 3-34, FAA Approved December 9, 2014; into the SA227-AT (8AT) Merlin IVC POH/AFM, dated May 13, 1987.

(8) For Model SA227-TT Fairchild 300 airplanes: Insert section 3, pages 3-3 through 3-30, revised December 9, 2014; and pages 3-31 through 3-34, FAA Approved December 9, 2014; into the SA227-TT Fairchild 300 POH/AFM, Reissue A, dated August 7, 1981.

(9) For Model SA227-TT Fairchild 312 airplanes: Insert section 3, page 3-3 and pages 3-5 through 3-30, revised December 9, 2014; and pages 3-31 through 3-32, FAA Approved December 9, 2014; into the Model SA227-TT Fairchild 300 (312) 12,500 LBS POH/AFM, dated October 4, 1981.

(10) For Model SA227-TT Fairchild Merlin IIIC airplanes: Insert section 3, pages 3-3 through 3-24, revised December 9, 2014, and pages 3-25 through 3-32, issued December 9, 2014; into the SA227-TT Merlin IIIC POH/AFM, Reissue A, dated August 7, 1981.

(11) For Model SA227-AC (C-26A) airplanes:

(i) Model 4AC: Insert section 3, pages 3-3 through 3-30, revised November 14, 2014; into the Fairchild Aircraft Model SA227-AC Metro III AFM, Reissue B, dated November 7, 1990.

(ii) Model 4MC: Insert section 3, pages 3-4 through 3-30, revised November 14, 2014; and pages 3-31 through 3-36, FAA Approved November 14, 2014, into the Fairchild Aircraft Model SA227-AC Metro III AFM, Reissue A, dated May 22, 1989.

(iii) Model 7AC: Insert section 3, pages 3-3 through 3-30, revised December 9, 2014; and pages 3-31 through 3-34, FAA Approved December 9, 2014, into the Fairchild Aircraft Model SA227-AC Metro III AFM, Reissue B, dated April 2, 1986.

(iv) Model 7MC: Insert section 3, pages 3-4 through 3-30, revised December 9, 2014; and pages 3-31 through 3-34, FAA Approved December 9, 2014, into the Fairchild Aircraft Model SA227-AC Metro III AFM, Reissue A, dated May 22, 1989.

(v) Model 8AC: Insert section 3, pages 3-4 through 3-30, revised December 9, 2014; and pages 3-31 through 3-34, FAA Approved December 9, 2014, into the Fairchild Aircraft Model SA227-AC Metro III AFM, Reissue A, dated May 22, 1989.

(vi) Model 6AC: Insert section 3, pages 3-4 through 3-20, revised November 14, 2014; into the Fairchild Aircraft Model SA227-AC Metro III AFM, Reissue A, dated May 22, 1989.

(12) For Model SA227-BC (6BC) airplanes: Insert section 3, pages 3-4 through 3-30, revised December 9, 2014; and pages 3-31 through 3-36, FAA Approved December 9, 2014, into the Fairchild Aircraft Model SA227-BC AFM, dated September 25, 1989.

(13) For Model SA227-DC (C-26B) airplanes:

(i) Model (6DC): Insert section 3, pages 3-3 through 3-26, revised December 9, 2014; and pages 3-27 through 3-32, FAA Approved December 9, 2014, into the Fairchild Aircraft Model SA227-DC AFM, dated August 23, 1991.

(ii) Model (8DC): Insert section 3, pages 3-3 through 3-31, revised December 9, 2014; and pages 3-32 through 3-34, FAA Approved December 9, 2014; into the Fairchild Aircraft Model SA227-DC AFM.

(14) For Model SA227-CC (6CC) airplanes: Insert section 3, pages 3-3 through 3-24, revised December 9, 2014; and pages 3-25 through 3-30, FAA Approved December 9, 2014; into the Fairchild Aircraft Model SA227-CC AFM, dated December 11, 1992.

(h) Alternative Methods of Compliance (AMOCs)

(1) The Manager, Fort Worth Aircraft Certification Office, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (i)(1) of this AD.

(2) Before using any approved AMOC, notify your appropriate principal inspector, or lacking a principal inspector, the manager of the local flight standards district office/certificate holding district office.

(i) Related Information

For more information about this AD, contact Michael Heusser, Aerospace Engineer, FAA, Fort Worth Aircraft Certification Office, 10101 Hillwood Parkway, Fort Worth, Texas 76177; telephone: (817) 222-5038; fax: (817) 222-5960; email: Michael.A.Heusser@faa.gov.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) M7 Aerospace LLC Merlin SA26-AT Dash One Airplane Flight Manual (AFM), Revision, section III, pages III-1 through III-6, revised May 14, 2015; and pages III-7 through III-8, FAA Approved May 14, 2015;

(ii) M7 Aerospace LLC Merlin SA26-AT Dash Two, AFM, Revision, section III, pages III-1 through III-6, revised May 14, 2015, and pages III-7 through III-8, FAA Approved May 14, 2015;

(iii) M7 Aerospace LLC Swearingen Merlin SA226-T AFM, Revision A-29, section III, pages III-2 though III-25, revised November 14, 2014, and page III-26, FAA Approved November 14, 2014;

(iv) M7 Aerospace LLC Swearingen Merlin SA226-AT AFM, Revision B-33, section III, pages III-2 through III-24, revised November 14, 2014, and pages III-25 through III-30, FAA November 14, 2014;

(v) M7 Aerospace LLC Merlin IIIB SA226-T(B) AFM, Revision B-29, section 3, pages 3-2 through page 3-20, revised November 14, 2014; and pages 3-21 through 3-24, issued November 14, 2014;

(vi) M7 Aerospace LLC Swearingen Metro SA226-TC AFM, Revision A-43, section III, pages III-2 through page III-24, revised November 14, 2014; and pages III-25 through III-32, FAA Approved November 14, 2014;

(vii) M7 Aerospace LLC Fairchild Aircraft Model SA227-AC (4AC) Metro III AFM, Revision B-11, section 3, pages 3-3 through 3-30, revised November 14, 2014;

(viii) M7 Aerospace LLC Fairchild Aircraft Model SA227-AC (4MC) Metro III AFM, Revision A-12, section 3, pages 3-4 through 3-30, revised November 14, 2014; and pages 3-31 through 3-36, FAA Approved November 14, 2014;

Note 1 to paragraph (j)(2)(viii): The list of effective pages for this manual on page 0-iv incorrectly identifies the effective date for page 3-4 as October 17, 1994. The correct date is November 14, 2014.

(ix) M7 Aerospace LLC Fairchild Aircraft Model SA227-AC (6AC) Metro III AFM, Revision A-16, section 3, pages 3-4 through 3-20, revised November 14, 2014;

(x) M7 Aerospace LLC Fairchild Aircraft Model SA227-AC (7AC) Metro III AFM, Revision B-19, section 3, pages 3-3 through 3-30, revised December 9, 2014; and pages 3-31 through 3-34, FAA Approved December 9, 2014;

(xi) M7 Aerospace LLC Fairchild Aircraft SA227-AC (7MC) Metro III AFM, Revision A-13, section 3, pages 3-4 through 3-30, revised December 9, 2014; and pages 3-31 through 3-34, FAA Approved December 9, 2014;

(xii) M7 Aerospace LLC Fairchild Aircraft SA227-AC (8AC) Metro III AFM, Revision A-15, section 3, pages 3-4 through 3-30, revised December 9, 2014; and pages 3-31 through 3-34, FAA Approved December 9, 2014;

(xiii) M7 Aerospace LLC Fairchild Aircraft SA227-AT (4AT) Merlin IVC, Pilot's Operating Handbook (POH)/AFM, Revision A-12, section 3, pages 3-4 through 3-30, revised November 14, 2014; and pages 3-31 through 3-34, FAA Approved November 14, 2014;

(xiv) M7 Aerospace LLC Fairchild Aircraft SA227-AT (6AT) Merlin IVC POH/AFM, Revision 13, section 3, pages 3-4 through 3-30, revised November 14, 2014; and pages 3-31 through 3-36, FAA Approved November 14, 2014;

(xv) M7 Aerospace LLC Fairchild Aircraft SA227-AT (7AT) Merlin IVC POH/AFM, Revision B-12, section 3, pages 3-4 through 3-30, revised December 9, 2014, and pages 3-31 through 3-34, FAA Approved December 9, 2014;

(xvi) M7 Aerospace LLC Fairchild Aircraft SA227-AT (8AT) Merlin IVC POH/AFM, Revision 13, section 3, pages 3-4 through 3-30, revised December 9, 2014; and pages 3-31 through 3-34, FAA Approved December 9, 2014;

(xvii) M7 Aerospace LLC Fairchild Aircraft SA227-BC (6BC) AFM, Revision 21, section 3, pages 3-4 through 3-30, revised December 9, 2014; and pages 3-31 through 3-36, FAA Approved December 9, 2014;

(xviii) M7 Aerospace LLC Fairchild Aircraft SA227-CC (6CC) AFM, Revision 17, section 3, pages 3-3 through 3-24, revised December 9, 2014; and pages 3-25 through 3-30, FAA Approved December 9, 2014;

(xix) M7 Aerospace LLC Fairchild Aircraft SA227-DC (6DC) AFM, Revision 34, section 3, pages 3-3 through 3-26, revised December 9, 2014; and pages 3-27 through 3-32, FAA Approved December 9, 2014;

(xx) M7 Aerospace LLC Fairchild Aircraft SA227-DC (8DC) AFM, Revision 8, section 3, pages 3-3 through 3-26, revised December 9, 2014; and pages 3-27 through 3-34, FAA Approved December 9, 2014;

(xxi) M7 Aerospace LLC Fairchild 300 Aircraft SA227-TT POH/AFM, Revision 15, section 3, pages 3-3 through 3-30, revised December 9, 2014; and pages 3-31 through 3-34, FAA Approved December 9, 2014;

(xxii) M7 Aerospace LLC Fairchild 300 Aircraft SA227-TT (312) POH/AFM, Revision 13, section 3, page 3-3 and pages 3-5 through 3-30, revised December 9, 2014, and pages 3-31 through 3-32, FAA Approved December 9, 2014; and

(xxiii) M7 Aerospace LLC Fairchild Model SA227-TT Merlin IIIC Aircraft POH/AFM, Revision 29, section 3, pages 3-3 through 3-24, revised December 9, 2014, and pages 3-25 through 3-32, issued December 9, 2014.

Note 2 to paragraph (j)(2) of this AD: While not specifically identified on the manuals, paragraphs (j)(2)(vii) through (j)(2)(xii) apply to the military version C-26A, and paragraphs (j)(2)(xix) and (j)(2)(xx) apply to the military version C-26B of these airplanes.

(3) For M7 Aerospace LLC service information identified in this AD, contact M7 Aerospace LLC, 10823 NE Entrance Road, San Antonio, Texas 78216; phone: (210) 824-9421; fax: (210) 804-7766; Internet: http://www.elbitsystems-us.com; email: MetroTech@M7Aerospace.com.

(4) You may view this referenced service information at the FAA, Small Airplane Directorate, 901 Locust, Kansas City, Missouri 64106. For information on the availability of this material at the FAA, call 816-329-4148.

(5) You may view this service information that is incorporated by reference at the National Archives and Records Administration (NARA). For information on the availability of this material at NARA, call 202-741-6030, or go to: http://www.archives.gov/federal-register/cfr/ibr-locations.html.

Issued in Kansas City, Missouri, on February 10, 2016.
Pat Mullen,
Acting Manager, Small Airplane Directorate, Aircraft Certification Service.

[FR Doc. 2016-03171 Filed 3-3-16; 8:45 am]

BILLING CODE 4910-13-P